ENVIRONMENTAL PROTECTION AGENCY

40 CFR Part 50

[EPA-HQ-OAR-2016-0408; FRL-9953-20-OAR]

RIN 2060-AS89

Technical Correction to the National Ambient Air Quality Standards for Particulate Matter

AGENCY: Environmental Protection Agency (EPA).

ACTION: Withdrawal of direct final rule.

SUMMARY: Because the Environmental Protection Agency (EPA) received adverse comment, we are withdrawing the direct final rule titled, “Technical Correction to the National Ambient Air Quality Standards for Particulate Matter,” published on August 11, 2016.

DATES: Effective September 29, 2016, the EPA withdraws the direct final rule published at 81 FR 53006 on August 11, 2016.

FOR FURTHER INFORMATION CONTACT: Mr. Brett Gantt, Air Quality Assessment Division, Office of Air Quality Planning and Standards (Mail Code: C304-04), Environmental Protection Agency, 109 T.W. Alexander Drive, Research Triangle Park, NC 27711, telephone number: 919-541-5274; fax number: 919-541-3613; email address: gantt.brett@epa.gov.

SUPPLEMENTARY INFORMATION: Because the EPA received adverse comment, we are withdrawing the direct final rule titled, “Technical Correction to the National Ambient Air Quality Standards for Particulate Matter,” published on August 11, 2016 (81 FR 53006). We stated in that direct final rule that if we received adverse comment by September 12, 2016, the direct final rule would not take effect and we would publish a timely withdrawal in the Federal Register. We subsequently received adverse comment on that direct final rule. We will address those comments in a final action, which will be based on the parallel proposed rule also published on August 11, 2016 (81 FR 53097). As stated in the direct final rule and the parallel proposed rule, we will not institute a second comment period on this action.

Dated: September 20, 2016.
Janet G. McCabe,
Acting Assistant Administrator, Office of Air and Radiation.

[FR Doc. 2016-23304 Filed 9-28-16; 8:45 am]

BILLING CODE 6560-50-P